DEPARTMENT OF THE INTERIOR

National Park Service

[NPS-WASO-NAGPRA-12404; PCU00RP14.R50000-PPWOCRADN0]

Notice of Intent To Repatriate Cultural Items: U.S. Department of the Interior, National Park Service, Natchez Trace Parkway, Tupelo, MS

AGENCY: National Park Service, Interior.

ACTION: Notice.

SUMMARY: The U.S. Department of the Interior, National Park Service, Natchez Trace Parkway, in consultation with the appropriate Indian tribes, has determined that the cultural items meet the definition of unassociated funerary objects and repatriation to the Indian tribe stated below may occur if no additional claimants come forward. Representatives of any Indian tribe that believes itself to be culturally affiliated with the cultural items may contact Natchez Trace Parkway.

DATES: Representatives of any Indian tribe that believes it has a cultural affiliation with the cultural items should contact Natchez Trace Parkway at the address below by April 29, 2013.

ADDRESSES: Dale Wilkerson, Acting Superintendent, Natchez Trace Parkway, 2680 Natchez Trace Parkway, Tupelo, MS, 38803, telephone (662) 680-4005.

SUPPLEMENTARY INFORMATION: Notice is here given in accordance with the Native American Graves Protection and Repatriation Act (NAGPRA), 25 U.S.C. 3005, of the intent to repatriate cultural items in the possession of the U.S. Department of the Interior, National Park Service, Natchez Trace Parkway, Tupelo, MS that meet the definition of unassociated funerary objects under 25 U.S.C. 3001.

This notice is published as part of the National Park Service's administrative responsibilities under NAGPRA, 25 U.S.C. 3003(d)(3). The determinations in this notice are the sole responsibility of the Superintendent, Natchez Trace Parkway.

History and Description of the Cultural Items

In 1963 and 1964, funerary objects were removed from the Boyd site in Madison County, MS, during an authorized National Park Service project to mitigate construction impacts from the Natchez Trace Parkway. The whereabouts of the human remains are unknown. The excavation report's description of advanced bone deterioration for these burials suggests the remains were left in the ground due to their fragility. The 461 unassociated funerary objects are 1 jar, 6 bifaces, 1 vessel, 2 vessel fragments, 250 glass beads, 7 nails, 1 nail fragment, 5 bone buttons, 8 stone knives/bifaces, 3 celts, 1 shell pendant, 167 shell beads, 1 quartz crystal, 1 ferruginous sandstone, 1 ochre fragment, 3 perforators/points, and 3 shells.

The Boyd site consists of a village area and six mounds. On the basis of artifacts recovered during the excavations, the village area is believed to have been occupied during the Woodland period (A.D. 300-700). The six mounds were built and occupied during the Late Woodland through Middle Mississippian periods (A.D. 1000-1350). One burial was exhumed with fragments of a Baytown Plain ceramic jar, a ceramic type often associated with the Late Woodland and Early Mississippian period (A.D. 700-1200). The construction of these mounds and the presence of shell tempered pottery are indicative of the Middle Mississippian period (A.D. 1200-1350). The mounds suggest a possible centralized authority and thus social stratification during this period, similar to that found among the Natchez.

Historical evidence indicates the dispersal of the Natchez Indians into Cherokee, Chickasaw, and Creek tribal groups. In 1542, Hernando de Soto's expedition encountered Indians along the lower Mississippi River believed to have been the Natchez and their allies. In 1682, the de La Salle expedition specifically identified the Natchez as living along the banks of the lower Mississippi River. Following an unsuccessful rebellion against the French in 1729, the Natchez were dispersed. About 400 individuals surrendered to the French and were sent to the West Indies as slaves. The remaining Natchez withdrew among the Chickasaw and ultimately separated into two main bands, one settling among the Upper Creeks and the other uniting with the Cherokee. The Natchez language was still spoken by some in the Creek Nation until the early 20th century and by some among the Cherokee until the 1940s. Given territorial proximity and complexities of modern Cherokee tribal alignments in Oklahoma, both the Cherokee Nation and the United Keetoowah Band of Cherokee Indians are likely to include tribal members of Natchez descent.

A historic Choctaw presence is indicated by the glass beads, buttons, and nails found in association with an intrusive historic burial at the site. The glass beads are similar to those found at trading sites and historic Indian villages in Georgia and Alabama, suggesting a Choctaw occupation from the late 18th through the early 19th centuries.

Determinations Made by Natchez Trace Parkway

Officials of Natchez Trace Parkway have determined that:

• Pursuant to 25 U.S.C. 3001(3)(B), the 461 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Cherokee Nation; Chickasaw Nation; Choctaw Nation of Oklahoma; Mississippi Band of Choctaw Indians; The Muscogee (Creek) Nation; and United Keetoowah Band of Cherokee Indians in Oklahoma.

Additional Requestors and Disposition

Representatives of any other Indian tribe that believes itself to be culturally affiliated with the unassociated funerary objects should contact Dale Wilkerson, Acting Superintendent, Natchez Trace Parkway, 2680 Natchez Trace Parkway, Tupelo, MS 38803, telephone (662) 680-4005, before April 29, 2013. Repatriation of the unassociated funerary objects to the Cherokee Nation; Chickasaw Nation; Choctaw Nation of Oklahoma; Mississippi Band of Choctaw Indians; The Muscogee (Creek) Nation; and United Keetoowah Band of Cherokee Indians in Oklahoma may proceed after that date if no additional claimants come forward.

Natchez Trace Parkway is responsible for notifying the Cherokee Nation; Chickasaw Nation; Choctaw Nation of Oklahoma; Mississippi Band of Choctaw Indians; The Muscogee (Creek) Nation; and United Keetoowah Band of Cherokee Indians in Oklahoma that this notice has been published.

Dated: February 21, 2013.
Mariah Soriano,
Acting Manager, National NAGPRA Program.

[FR Doc. 2013-07371 Filed 3-28-13; 8:45 am]

BILLING CODE 4312-50-P